DEPARTMENT OF THE INTERIOR

Bureau of Land Management

[LLCON03400 L1711 AL]

Notice of Public Meeting, Northwest Colorado Resource Advisory Council Subgroup for McInnis Canyons National Conservation Area

AGENCY: Bureau of Land Management.

ACTION: Notice of public meeting.

SUMMARY: In accordance with the Federal Land Policy and Management Act (FLPMA) and the Federal Advisory Committee Act of 1972 (FACA), the U.S. Department of the Interior, Bureau of Land Management (BLM) Northwest Colorado Resource Advisory Council (RAC) McInnis Canyons National Conservation Area (MCNCA) Subgroup will meet in March 2010.

DATES: A MCNCA Subgroup meeting will be held March 4, 2010.

ADDRESSES: The Northwest Colorado RAC McInnis Canyons National Conservation Area Subgroup meeting will be held March 4, 2010, at the Bureau of Land Management Grand Junction Field Office at 2815 H Road, Grand Junction, CO 81506.

The meeting will begin at 5 p.m. and adjourn at approximately 7 p.m. A public comment period regarding matters on the agenda will be at 5:30 p.m.

FOR FURTHER INFORMATION CONTACT: Katie Stevens, McInnis Canyons National Conservation Area Manager, 2815 H Road, Grand Junction, CO; telephone 970-244-3049; or Erin Curtis, Public Affairs Specialist, 2815 H Road, Grand Junction, CO, telephone 970-244-3097.

SUPPLEMENTARY INFORMATION: The Subgroup provides counsel and advice to the full Northwest Resource Advisory Council, who in turn provides counsel and advice to the Secretary of the Interior, through the BLM, concerning implementation of a management plan developed in accordance with FLPMA, for public lands within the MCNCA. Agenda items will include an update on river permit/fee options and an update on Front Country trail planning.

The meeting is open to the public and includes a time set aside for public comment. Interested persons may make oral statements at the meeting or submit written statements at any meeting. Per-person time limits for oral statements may be set to allow all interested persons an opportunity to speak.

Summary minutes of all Subgroup meetings will be maintained at the Grand Junction Field Office. They are available for public inspection and reproduction during regular business hours within thirty (30) days of the meeting. In addition, minutes and other information concerning the Subgroup can be obtained from the MCNCA planning Web site at: http://www.blm.gov/co/st/en/nca/mcnca/mcncaplan/cocanplan_adv.html which will be updated following each Subgroup meeting.

Helen M. Hankins,
Colorado State Director.

[FR Doc. 2010-4026 Filed 2-25-10; 8:45 am]

BILLING CODE 4310-JB-P